ENVIRONMENTAL PROTECTION AGENCY

40 CFR Parts 52 and 81

[EPA-R09-OAR-2012-0781; FLR-9920-18-Region 9]

Redesignation Request and Maintenance Plan for PM2.5; Yuba City-Marysville; California

AGENCY: Environmental Protection Agency.

ACTION: Final rule.

SUMMARY: The Environmental Protection Agency (EPA) is taking final action to approve, as a revision of the California state implementation plan (SIP), the State's request to redesignate the Yuba City-Marysville nonattainment area to attainment for the 2006 24-hour fine particulate matter (PM2.5) National Ambient Air Quality Standard. The EPA is also taking final action to approve the PM2.5 maintenance plan and the associated motor vehicle emissions budgets for use in transportation conformity determinations necessary for the Yuba City-Marysville area. Finally, the EPA is taking final action to approve the attainment year emissions inventory. The EPA is approving this revision because it meets the requirements of the Clean Air Act and EPA guidance for such plans, motor vehicle emissions budgets, and inventories.

DATES: This final rule is effective on January 8, 2015.

ADDRESSES: The EPA has established a docket for this action: Docket ID No. EPA-R09-2012-0781. Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: John Ungvarsky, Air Planning Office (AIR-2), U.S. Environmental Protection Agency, Region IX, (415) 972-3963, ungvarsky.john@epa.gov.

SUPPLEMENTARY INFORMATION: Throughout this document, “we,” “us,” or “our” refer to the EPA.

Table of Contents

I. Summary of Today's Final Action

A. Background

II. What comments did the EPA receive on the proposed rule?

III. What action is the EPA taking?

IV. Statutory and Executive Order Reviews

I. Summary of Today's Final Action

Under Clean Air Act (CAA or “the Act”) section 107(d)(3)(D), the EPA is approving the State's request to redesignate the Yuba City-Marysville PM2.5 nonattainment area ¹ to attainment for the 2006 24-hour PM2.5 National Ambient Air Quality Standard (NAAQS or “standard”). We are doing so based on our conclusion that the area has met the five criteria for redesignation under CAA section 107(d)(3)(E): (1) That the area has attained the 24-hour PM2.5 NAAQS in the 2010-2012 time period and that the area continues to attain the PM2.5 standard since that time; (2) that relevant portions of the California state implementation plan (SIP) are fully approved; (3) that the improvement in air quality is due to permanent and enforceable reductions in emissions; (4) that California has met all requirements applicable to the Yuba City-Marysville PM2.5 nonattainment area with respect to section 110 and part D of the CAA; and (5) that the Yuba City-Marysville PM2.5 Redesignation Request and Maintenance Plan (“Yuba City-Marysville PM2.5 Plan” or “Plan”) ² meets the requirements of section 175A of the CAA.

¹ The boundaries for this area are described in 40 CFR 81.305.

² See letter from Richard W. Corey, Executive Officer, California Air Resources Board, to Jared Blumenfeld, Regional Administrator, EPA Region 9, dated May 23, 2013, with attachments. On February 20, 2014, the California Air Resources Board (CARB) submitted to the EPA a technical supplement to the Yuba City-Marysville PM2.5 Plan (“technical supplement”). The technical supplement included: A Staff Report titled “Minor Updates to Yuba City-Marysville PM2.5 Maintenance Plan and Redesignation Request” (“CARB 2014 Staff Report”); a letter from Christopher D. Brown, Air Pollution Control Officer, FRAQMD to Deborah Jordan, Director, Air Division, USEPA Region 9, and Richard Corey, Executive Officer, CARB, clarify the contingency plan; a notice of February 20, 2014 public meeting to consider approval of minor updates to the Yuba City-Marysville PM2.5 Maintenance Plan and Redesignation Request; transcripts from February 20, 2014 CARB Board meeting; and Board Resolution 14-6.

In addition, under CAA section 110(k)(3), the EPA is approving the Yuba City-Marysville PM2.5 Plan as a revision to the California SIP. The EPA finds that the maintenance demonstration shows how the area will continue to attain the 2006 24-hour PM2.5 NAAQS for at least 10 years beyond redesignation (i.e., through 2024), and that the contingency provisions describing the actions that the Feather River Air Quality Management District (FRAQMD) will take in the event of a future monitored violation meet all applicable requirements for maintenance plans and related contingency provisions in CAA section 175A. The EPA is also approving the motor vehicle emissions budgets (MVEBs) in the Yuba City-Marysville PM2.5 Plan because we find that the MVEBs meet the applicable transportation conformity requirements under 40 CFR 93.118(e). Finally, the EPA is approving the 2011 emissions inventory included in the Yuba City-Marysville PM2.5 Plan as the attainment year emissions inventory because it meets the requirements of CAA section 172(c)(3).

The EPA is finalizing these actions because they meet the requirements of the CAA, its implementing regulations, and EPA guidance for such plans and budgets.

A. Background

On October 15, 2014, the EPA issued a notice of rulemaking proposing to approve California's request to redesignate the Yuba City-Marysville area to attainment for the 2006 24-hour PM2.5 standard, as well as proposing to approve California's ten-year ozone maintenance plan for the area, the MVEBs, and the 2011 emissions inventory as the attainment year emissions inventory as revisions of the California SIP. See 79 FR 61822. The proposed rulemaking set forth the basis for determining that California's redesignation request meets the CAA requirements for redesignation for the 2006 24-hour PM2.5 standard. The proposed rulemaking provided an extensive background on the 2006 24-hour PM2.5 standard, CAA requirements for redesignation for the 2006 24-hour PM2.5 standard, and their relationship to air quality in the Yuba City-Marysville nonattainment area.

In our October 15, 2014 proposal we also took into account a January 4, 2013 decision by the United States Court of Appeals, District of Columbia Circuit (D.C. Circuit) regarding Natural Resources Defense Council v. EPA. In its 2013 decision, the D.C. Circuit remanded to the EPA the “Clean Air Fine Particle Implementation Rule” (72 FR 20586, April 25, 2007) and the “Implementation of the New Source Review (NSR) Program for Particulate Matter Less than 2.5 Micrometers (PM2.5)” final rule (73 FR 28321, May 16, 2008). 706 F.3d 428 (D.C. Cir. 2013). The effect of the 2013 DC Circuit decision regarding PM2.5 implementation under subpart 4 of Part D of Title I of the CAA is discussed at length in our October 15, 2014 proposed action. See 79 FR 61824, 61840. In summary, the EPA proposed that the redesignation request for the Yuba City-Marysville nonattainment area, though not expressed in terms of subpart 4 requirements, substantively meets the requirements of that subpart for purposes of redesignating the area to attainment for the 2006 24-hour PM2.5 NAAQS.

Our proposed rulemaking also described the complete, quality-assured, and certified air quality monitoring data for the Yuba City-Marysville nonattainment area for 2011-2013 showing that this area continued to attain the 2006 24-hour PM2.5 standard.³ Preliminary data available to date for 2014 are consistent with continued attainment of the 2006 24-hour PM2.5 standard.

³ The EPA previously determined that the Yuba City-Marysville PM2.5 nonattainment area attained the 2006 24-hour PM2.5 NAAQS based on the 2009-2011 monitoring period. See 78 FR 2211 (January 10, 2013).

II. What comments did the EPA receive on the proposed rule?

The EPA's proposed rule provided a 30-day public comment period. During this period, we did not receive any comments opposing the proposed rule.

III. What action is the EPA taking?

Based on our review of the Yuba City-Marysville PM2.5 Plan submitted by the State, air quality monitoring data, other relevant materials, and for the reasons described in depth in the proposed rule, the EPA finds that the State has addressed all the necessary requirements for redesignation of the Yuba City-Marysville nonattainment area to attainment of the 2006 24-hr PM2.5 NAAQS, pursuant to CAA sections 107(d)(3)(E) and 175A.

First, under CAA section 107(d)(3)(D), we are approving the California Air Resources Board's (CARB) request, which accompanied the submittal of the Yuba City-Marysville PM2.5 Plan, to redesignate the Yuba City-Marysville PM2.5 nonattainment area to attainment for the 2006 24-hour PM2.5 NAAQS. We are doing so based on our conclusion that the area has met the five criteria for redesignation under CAA section 107(d)(3)(E). Our conclusion is based on our determination that the area has attained the 2006 24-hour PM2.5 NAAQS; that relevant portions of the California SIP are fully approved; that the improvement in air quality is due to permanent and enforceable reductions in emissions; that California has met all requirements applicable to the Yuba City-Marysville PM2.5 nonattainment area with respect to section 110 and part D of the CAA; and is based on our approval of the Yuba City-Marysville PM2.5 Plan as part of this action.

Second, in connection with the Yuba City-Marysville PM2.5 Plan showing maintenance through 2024, the EPA finds that the maintenance demonstration, which documents how the area will continue to attain the 2006 24-hour PM2.5 NAAQS for 10 years beyond redesignation (i.e., through 2024) and the actions that FRAQMD will take if a future monitored violation triggers the contingency plan, meets all applicable requirements for maintenance plans and related contingency provisions in section 175A of the CAA. The EPA is also approving the motor vehicle emissions budgets in the Yuba City-Marysville PM2.5 Plan because we find they meet the applicable transportation conformity requirements under 40 CFR 93.118(e). Lastly, the EPA is approving the 2011 inventory, which serves as the Yuba City-Marysville PM2.5 Plan's attainment year inventory, as satisfying the requirements of section 172(c)(3) of the CAA.

IV. Statutory and Executive Order Reviews

Under the CAA, redesignation of an area to attainment and the accompanying approval of a maintenance plan under section 107(d)(3)(E) are actions that affect the status of a geographical area and do not impose any additional regulatory requirements on sources beyond those imposed by State law. Redesignation to attainment does not in and of itself create any new requirements, but rather results in the applicability of requirements contained in the CAA for areas that have been redesignated to attainment. Moreover, the Administrator is required to approve a SIP submission that complies with the provisions of the Act and applicable federal regulations. 42 U.S.C. 7410(k); 40 CFR 52.02(a). Thus, in reviewing SIP submissions, the EPA's role is to approve State choices, provided that they meet the criteria of the CAA. Accordingly, these actions merely approve a State plan and redesignation request as meeting federal requirements and do not impose additional requirements beyond those by State law. For these reasons, these final actions:

• Are not a “significant regulatory action” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of section 12(d) of the National Technology Transfer and Advancement Act of 1995 (15 U.S.C. 272 note) because application of those requirements would be inconsistent with the CAA; and

• Do not provide the EPA with the discretionary authority to address disproportionate human health or environmental effects with practical, appropriate, and legally permissible methods under Executive Order 12898 (59 FR 7629, February 16, 1994).

In addition, this final rule does not have tribal implications as specified by Executive Order 13175 (65 FR 67249, November 9, 2000), because the SIP is not approved to apply in Indian country located in the State, and the EPA notes that it will not impose substantial direct costs on tribal governments or preempt tribal law. There are no federally recognized tribes located within the Yuba City-Marysville PM2.5 nonattainment area.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 9, 2015. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Intergovernmental relations, Nitrogen dioxide, Particulate matter, Reporting and recordkeeping requirements, Sulfur dioxide.

40 CFR Part 81

Environmental protection, Air pollution control, National parks, Wilderness areas.

Dated: November 20, 2014.
Jared Blumenfeld,
Regional Administrator, Region IX.

Part 52 Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(446) to read as follows:

§ 52.220 Identification of plan.

* * * * *

(c) * * *

(446) A plan was submitted on May 23, 2013, by the Governor's designee.

(i) [Reserved]

(ii) Additional materials

(A) Feather River Air Quality Management District (FRAQMD).

(1) Yuba City-Marysville PM2.5 Redesignation Request and Maintenance Plan, including motor vehicle emissions budgets (MVEBs) and attainment year emission inventory, dated April 1, 2013.

(2) FRAQMD Board of Directors Resolution 2013-01, dated April 1, 2013. “Resolution Adopting the PM2.5 Redesignation Request and Maintenance Plan,” including attainment year emissions inventory and MVEBs for 2017 and 2024.

(B) State of California Air Resources Board (CARB).

(1) CARB Resolution Number 13-14, dated April 25, 2013. “Yuba City-Marysville PM2.5 Maintenance Plan and Redesignation Request.”

(2) CARB Resolution Number 14-6, dated February 20, 2014. “Minor Updates to Yuba City-Marysville PM2.5 Maintenance Plan and Redesignation Request.”

PART 81-DESIGNATION OF AREAS FOR AIR QUALITY PLANNING PURPOSES

3. The authority citation for part 81 continues to read as follows:

Authority: 42 U.S.C. 7401 et seq.

Subpart C—[Amended]

4. Section 81.305 is amended in the table for “California—2006 24-Hour PM2.5 NAAQS” by revising the entry under “Yuba City-Marysville, CA” to read as follows:

§ 81.305 California.

* * * * *

California—2006 24-Hour PM2.5 NAAQS
[Primary and secondary]
Designated area | Designation ᵃ: Date ¹ | Designation ᵃ: Type | Classification: Date ² | Classification: Type
* * * * * * *
Yuba City-Marysville, CA
Sutter County | January 8, 2015 | Attainment
Yuba County (part) | January 8, 2015 | Attainment
That portion of Yuba County which lies west of the line described as follows: (Mount Diablo Base and Meridian) Beginning at the intersection of the Yuba-Nevada county line and the range line common to ranges R7E and R8E, north to the southeast corner of township T18N R7E, then west along the township line common to T17N and T18N, then north along the range line common to ranges R6E and R7E, then west along the township line common to T19N and T18N to the Yuba-Butte County boundary.
* * * * * * *
ᵃ Includes Indian Country located in each county or area, except as otherwise specified.
¹ This date is 30 days after November 13, 2009, unless otherwise noted.
² This date is July 2, 2014, unless otherwise noted.

* * * * *

[FR Doc. 2014-28729 Filed 12-8-14; 8:45 am]

BILLING CODE 6560-50-P